DEPARTMENT OF HEALTH AND HUMAN SERVICES

National Institutes of Health

Proposed Collection; Comment Request; Pilot Study Evaluating the Cross-Cultural Equivalency of the Tobacco Use Supplement to the Current Population Survey (TUS-CPS)

SUMMARY: In compliance with the requirement of Section 3506()(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Pilot Study Evaluating the Cross-Cultural Equivalency of the Tobacco Use Supplement to the Current Population Survey (TUS-CPS). Type of Information Collection Request: New. Need and Use of Information Collection: NCI recognizes the need for research studies that assess trends in tobacco-related risk factors, behaviors, and health services to determine changes over time and the influence of these trends on cancer incidence, morbidity, mortality, and survival. Through population-based surveys, NCI is able to monitor a number of issues related to individual tobacco use behavior such as prevalence of use, how often and how much people use tobacco, age of initiation, and quitting history. To understand all the dynamics of tobacco control, NCI actively monitors the progress of tobacco control efforts that are primarily funded and carried out at the state level. Information from these surveys allow us to monitor Americans' progress in reducing tobacco use, evaluate tobacco use, evaluates tobacco control programs, and conduct other tobacco-related research. NCI monitors progress in reducing tobacco use, evaluates tobacco control programs, and conducts other tobacco-related research. The NCI- and CDC-sponsored Tobacco Use Supplement to the Current Population Survey (http://riskfactor.cancer.gov/studies/tus-cps/) is a survey of tobacco use that has been administered by the US Census Bureau in 1992-93, 1995-96, 1998-99, 2001-02 and 2003. The TUS-CPS is a key source of national and state level data on smoking and other tobacco use in the US household population because it uses a large, nationally representative sample that contains information on about 240,000 individuals within a given survey period. These data can be used by researchers to monitor progress in the control of tobacco use; conduct tobacco-related research; and evaluate tobacco control programs. In an effort to better capture the tobacco-related patterns and behaviors of U.S. communities with limited English proficiency, the TUS-CPS has been translated into Spanish, Chinese, Vietnamese and Korean. The translated versions of the TUS-CPS were evaluated in cognitive interviews, will be made available to the public, and are scheduled for cultural equivalency testing. The primary purpose of this study is to evaluate the cross-cultural equivalency of the TUS-CPS in English, Spanish, Chinese, Korean and Vietnamese. Each version of the questionnaire will be administered to 50 native speakers. The Chinese version will be administered to both mandarin and Cantonese speakers. Each interview will be behavior coded to ensure that respondents are interpreting the items correctly and any translation problems are identified item by item. Twenty percent of respondents will be retrospectively debriefed on the interview to determine how well the items are understood and examine whether any translation issues exist. The findings will provide valuable information concerning the clarity of the survey prior to full-scale administration.

Frequency of response: One-time study. Affected Public: Individuals. Type of Respondents: Adults who are native Chinese (Mandarin and Cantonese), Korean, Vietnamese, and Spanish speakers. The annual reporting burden is as follows:

Data collection task | Estimated number of respondents | Estimated number of responses per respondent | Average burden hours per response | Estimate total hour burden
Screener | 2,568 | 1 | 0.167 | 429
TUS-CPS | 300 | 1 | 1 | 300
Retrospective Debriefing | 60 | 1 | .50 | 30
Total | 2,568 |  |  | 759

There are no Capital Costs to report. There are no Operating or Maintenance Costs to report.

Request for Comments: Written comments and/or suggestions from the public and affected agencies are invited on one or more of the following points: (1) Whether the proposed collection of information is necessary for the proper performance of the function of the agency, including whether the information will have practical utility, (2q) The accuracy of the agency's estimate of the burden of the proposed collection of information, including the validity of the methodology and assumptions used, (3) Ways to enhance the quality, utility and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Deirdre Lawrence, Project Office, National Cancer Institute, EPN 4005, 6130 Executive Blvd., MSC 7344, Bethesda, MD 20892-7344, or call non-toll-free number 301-594-3599, or Fax your request to 301-435-3710, or E-mail your request, including your address, to: DL177n@nih.gov.

Comments Due Date: Comments regarding this information are best assured of having their full effect if received within 60 days of the date of this publication.

Dated: February 23, 2004.
Rachelle Ragland-Greene,
NCI Project Clearance Liaison, National Institutes of Health.

[FR Doc. 04-4646 Filed 3-2-04; 8:45 am]

BILLING CODE 4140-01-M